DEPARTMENT OF THE INTERIOR

National Park Service

Notice of Meeting

AGENCY: National Park Service, U.S. Department of the Interior.

SUMMARY: Notice is hereby given in accordance with the Federal Advisory Commission Act and 36 CFR part 65 that a meeting of the Landmarks Committee of the National Park System Advisory Board will be held beginning at 1 p.m. on October 24, 2005 and at the following location. The meeting will continue beginning at 9 a.m. on October 25.

DATES: October 24-25, 2005.

Location: The 2nd Floor Board Room of the National Trust for Historic Preservation, 1785 Massachusetts Avenue, NW., Washington, DC 20036.

FOR FURTHER INFORMATION CONTACT: Patricia Henry, National Historic Landmarks Program, National Park Service; 1849 C Street, NW. (2280); Washington, DC 20240; Telephone (202) 354-2216.

SUPPLEMENTARY INFORMATION: The purpose of the meeting of the Landmarks Committee of the National Park System Advisory Board is to evaluate nominations of historic properties in order to advise the National Park System Advisory Board of the qualifications of the property being proposed for National Historic Landmark (NHL) designation, and to recommend to the National Park System Advisory Board at their subsequent meeting, November 17-18, 2005 in New Orleans, Louisiana, if the Landmarks Committee finds that each property meets the criteria for designation as a National Historic Landmark. The Committee also makes recommendations to the National Park System Advisory Board regarding amendments to existing designations, and proposals for withdrawal of designation. The members of the National Landmarks Committee are:

Mr. Larry E. Rivers, Ph.D., Chair

Mr. James M. Allan, Ph.D.

Mr. Cary Carson, Ph.D.

Ms. Mary Werner DeNadai, FAIA

Ms. Alferdteen Brown Harrison, Ph.D.

Mr. E.L. Roy Hunt, J.D., Professor Emeritus

Mr. Ronald James

Mr. William J. Murtagh, Ph.D.

Mr. William D. Seale, Ph.D.

Ms. Jo Anne Van Tilburg, Ph.D.

The meeting will be open to the public. Pursuant to 36 CFR part 65, any member of the public may file for consideration by the National Park System Advisory Board and its Landmarks Committee written comments concerning the National Historic Landmarks nominations, amendments to existing designations, or proposals for withdrawal of designation.

Comments should be submitted to John W. Roberts, Acting Chief, National Historic Landmarks Program, National Park Service; 1849 C Street, NW., (2280); Washington, DC 20240.

The National Park System Advisory Board and its Landmarks Committee will consider the following nominations and proposals for amending existing designations:

Nominations:

California

• Mission San Miguel Arcángel, San Miguel, CA

Colorado

• Colorado Chautauqua, Boulder, CO

Florida

• Hotel Ponce de Leon, Saint Augustine, FL

Illinois

• Lincoln Park Lily Pool, Chicago, IL

Iowa

• Rev. George B. Hitchcock House, Lewis, IA

Minnesota

• Rabideau Civilian Conservation Corps (CCC) Camp, Beltrami County, MN

Montana

• Rosebud Battlefield/Where the Girl Saved Her Brother, Big Horn County, MT

• Wolf Mountains Battlefield/Where Big Crow Walked Back and Forth, Rosebud County, MT

New York

• Manitoga (Russel Wright House and Studio), Putnam County, NY

Rhode Island

• Chateau-sur-Mer, Newport, RI

• Marble House, Newport, RI

Virginia

• Petersburg Breakthrough Battlefield, Petersburg, VA

Wisconsin

• Silver Mound Archeological District, Jackson County, WI

Wyoming

• Union Pacific Railroad Depot, Cheyenne, WY

Proposed Amendments to Existing Designations:

Georgia

• Juliette Gordon Low Historic District, Savannah, GA (name change and boundary revision)

Pennsylvania

• Woodlands Estate and Cemetery, Philadelphia, PA (revised documentation)

Montana

• Butte-Anaconda Historic District, Silver Bow and Deer Lodge Counties, MT (revised documentation and boundary revision)

• Travelers Rest, Missoula County, MT (revised documentation and boundary revision)

Under the provisions of the National Trails System Act (Pub. L. 90-543) the opinion of the National Park System Advisory Board is included in congressionally authorized studies for proposed National Historic Trails. The Landmarks Committee will consider a draft statement of significance for the following proposed National Historic Trail study:

• Navajo Long Walk National Historic Trail.

Dated: August 4, 2005.
John W. Roberts,
Acting Chief, National Historic Landmarks Program; National Park Service, Washington, DC.

[FR Doc. 05-15968 Filed 8-11-05; 8:45 am]

BILLING CODE 4312-51-P